DEPARTMENT OF TRANSPORTATION

Federal Railroad Administration

[Docket Number FRA-2014-0095]

Notice of Application for Approval of Discontinuance or Modification of a Railroad Signal System

In accordance with Part 235 of Title 49 Code of Federal Regulations and 49 U.S.C. 20502(a), this document provides the public notice that by a document dated September 5, 2014, the Wisconsin Central Limited (WC) petitioned the Federal Railroad Administration (FRA) seeking approval for the discontinuance or modification of a signal system. FRA assigned the petition Docket Number FRA-2014-0095.

Applicant: Wisconsin Central Limited, Mr. Thomas L. Brasseur, Manager S&C, Engineering Department, Southern Region, 1625 Depot Street, Stevens Point, WI 54481.

WC, a subsidiary of Canadian National Railway (CN), seeks approval of the proposed discontinuance and removal of a traffic control system (TCS) between Milepost (MP) 162.9, South Ranier, and MP 161.8, Van Lynn, on the Rainy Subdivision, Ranier, MN. TCS will be removed and listed limits will be operated per CN's U.S. Operating Rules, Rule 520, Yard limits. New TCS limits will begin and end at Van Lynn.

The reason given for the proposed changes is to allow Canadian train crews more headroom to avoid blocking Spruce Street in Ranier. Currently, Canadian train crews cannot operate into United States TCS territory; therefore, Canadian crews have to be relieved by a United States crew to move the train. This changing of crews adds to the length of time that Spruce Street is blocked. In addition, U.S. Customs and Border Protection has a new inspection facility and requires more room to remove containers for inspection. This creates the need for a crew change to move the train far enough for this action to take place.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue SE., Room W12-140, Washington, DC 20590, between 9 a.m. and 5 p.m., Monday through Friday, except Federal Holidays.

Communications received by December 4, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on October 14, 2014.
Ron Hynes,
Director, Office of Technical Oversight.

[FR Doc. 2014-24750 Filed 10-17-14; 8:45 am]

BILLING CODE 4910-06-P